DEPARTMENT OF COMMERCE

National Oceanic and Atmospheric Administration

[RTID 0648-XD649]

Pacific Fishery Management Council; Public Meetings and Hearings

AGENCY: National Marine Fisheries Service (NMFS), National Oceanic and Atmospheric Administration (NOAA), Commerce.

ACTION: Notice of opportunities to provide public comments.

SUMMARY: The Pacific Fishery Management Council (Council) has begun its annual preseason process to develop regulations to manage the 2024 ocean salmon fisheries off the U.S. West Coast. This notice informs the public of opportunities to provide oral and written comments on the development of the regulations.

DATES: Comments received orally, electronically, or in hard copy by 5 p.m. Pacific Time, March 31, 2024, will be considered in the Council's final recommendation for the 2024 regulations. Dates when comments may be made at public hearings are provided under SUPPLEMENTARY INFORMATION.

ADDRESSES: Documents will be available from the Pacific Fishery Management Council, 7700 NE Ambassador Place, Suite 101, Portland, OR 97220-1384, and will be posted on the Council's website at https://www.pcouncil.org. You may submit written comments by any one of the following methods:

• Council e-Portal: Written comments must be submitted electronically to Mr. Marc Gorelnik, Chair, Pacific Fishery Management Council, via the Council's e-Portal by visiting https://pfmc.psmfc.org.

• Federal e-Rulemaking Portal: Electronic public comments via the Federal e-Rulemaking Portal. Go to https://www.regulations.gov and enter NOAA-NMFS-2023-0001 in the Search box. Click on the “Comment” tab, complete the required fields, and enter or attach your comments. All personal identifying information (e.g., name, address, etc.), confidential business information, or otherwise sensitive information submitted voluntarily by the sender will be publicly accessible. NMFS and the Council will accept anonymous comments (enter “N/A” in the required fields if you wish to remain anonymous).

FOR FURTHER INFORMATION CONTACT: Ms. Robin Ehlke, Pacific Fishery Management Council, telephone: 503-820-2280; email: robin.ehlke@noaa.gov. For information on submitting comments via the Federal e-Rulemaking portal, contact Shannon Penna, NMFS West Coast Region, telephone: 562-980-4239; email: shannon.penna@noaa.gov.

SUPPLEMENTARY INFORMATION: On February 13, 2024, the Council announced the schedule of reports, public meetings, and hearings for the development of annual regulations for the ocean salmon fisheries that start May 16, 2024 and continue through May 15, 2025, which we refer to as the 2024 management measures (89 FR 10042; https://www.pcouncil.org)). The Council will adopt alternatives for 2024 ocean salmon fisheries management at its meetings to be held in person March 5-11, 2024 in Fresno, CA. Details of this meeting, including opportunities to provide public testimony in-person or virtually are available on the Council's website (https://www.pcouncil.org). On March 22, 2024, “Preseason Report II—Proposed Alternatives and Environmental Assessment Part 2 for 2024 Ocean Salmon Fishery Regulations” is scheduled to be posted on the Council's website at https://www.pcouncil.org. The report will include a description of the salmon management alternatives to be considered and a summary of their biological and economic impacts.

Public hearings will be held to receive oral comments on the proposed ocean salmon fishery management alternatives adopted by the Council. All public hearings begin at 7 p.m. Standard Time. Public hearings focusing on Washington and California salmon fisheries will occur simultaneously in-person on March 25, 2024. The public hearing for Oregon will occur virtually on March 26, 2024. These public hearings are tentatively scheduled to occur in person, in the cities of Westport, Washington; Coos Bay, Oregon; and Santa Rosa, California. Actual hearing venues and instructions for joining online hearings will be posted on the Council's website (https://www.pcouncil.org) in advance of the hearing dates. A summary of oral comments received at the hearings will be provided to the Council at its April meeting.

Comments on the alternatives the Council adopts at its March 2024 meeting, and described in its Preseason Report II, may be submitted (1) in writing or electronically as described under ADDRESSES, (2) orally (in-person) at a public hearing, (3) orally (online or in-person) or in writing at the Council meeting held on March 5-11, 2024, or orally (online or in-person) at the Council meeting held on April 6-11, 2024, which is scheduled to occur in person, in Seattle, Washington. Details of these meetings will be available on the Council's website (https://www.pcouncil.org) and will be published in the Federal Register. Written and electronically submitted comments must be received prior to the April 2024 Council meeting in order to be included in the briefing book for the Council's April meeting, where they will be considered in the adoption of the Council's final recommendation for the 2024 salmon fishery regulations. All comments received accordingly will be reviewed and considered by the Pacific Council and NMFS.

Authority: 16 U.S.C. 1801 et seq.

Dated: March 6, 2024.
Everett Wayne Baxter,
Acting Director, Office of Sustainable Fisheries, National Marine Fisheries Service.

[FR Doc. 2024-05201 Filed 3-11-24; 8:45 am]

BILLING CODE 3510-22-P